COMMITTEE FOR THE IMPLEMENTATION OF TEXTILE AGREEMENTS

Announcement of Import Restraint Limits for Certain Cotton, Wool, Man-Made Fiber, Silk Blend and Other Vegetable Fiber Textiles and Textile Products Produced or Manufactured in Thailand

October 27, 2000.

AGENCY: Committee for the Implementation of Textile Agreements (CITA).

ACTION: Issuing a directive to the Commissioner of Customs establishing limits.

EFFECTIVE DATE: January 1, 2001.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, call (202) 482-3715.

SUPPLEMENTARY INFORMATION:

Authority: Section 204 of the Agricultural Act of 1956, as amended (7 U.S.C. 1854); Executive Order 11651 of March 3, 1972, as amended.

The import restraint limits for textile products, produced or manufactured in Thailand and exported during the period January 1, 2001 through December 31, 2001 are based on limits notified to the Textiles Monitoring Body pursuant to the Uruguay Round Agreement on Textiles and Clothing (ATC).

In the letter published below, the Chairman of CITA directs the Commissioner of Customs to establish the 2001 limits. Carryforward used will be charged to the 2001 limits as it is used.

A description of the textile and apparel categories in terms of HTS numbers is available in the CORRELATION: Textile and Apparel Categories with the Harmonized Tariff Schedule of the United States (see Federal Register notice 64 FR 71982, published on December 22, 1999). Information regarding the 2001 CORRELATION will be published in the Federal Register at a later date.

Richard B. Steinkamp,
Acting Chairman, Committee for the Implementation of Textile Agreements.

Committee for the Implementation of Textile Agreements

October 27, 2000.

Commissioner of Customs,

Department of the Treasury, Washington, DC 20229.

Dear Commissioner: Pursuant to section 204 of the Agricultural Act of 1956, as amended (7 U.S.C. 1854); Executive Order 11651 of March 3, 1972, as amended, and the Uruguay Round Agreement on Textiles and Clothing (ATC), you are directed to prohibit, effective on January 1, 2001, entry into the United States for consumption and withdrawal from warehouse for consumption of cotton, wool, man-made fiber, silk blend and other vegetable fiber textiles and textile products in the following categories, produced or manufactured in Thailand and exported during the twelve-month period beginning on January 1, 2001 and extending through December 31, 2001.

Category | Twelve-month restraint limit
Level not in a Group |
239pt. ¹ | 2,338,152 kilograms.
Levels in Group I |
200 | 1,526,022 kilograms.
218 | 23,503,767 square meters.
219 | 8,138,793 square meters.
300 | 6,104,095 kilograms.
301-P ² | 6,104,095 kilograms.
301-O ³ | 1,220,821 kilograms.
313-O ⁴ | 28,485,773 square meters.
314-O ⁵ | 65,110,336 square meters.
315-O ⁶ | 40,693,959 square meters.
317-O/326-O ⁷ | 17,083,718 square meters.
363 | 26,451,074 numbers.
369-D ⁸ | 290,963 kilograms.
369-S ⁹ | 406,939 kilograms.
604 | 952,100 kilograms of which not more than 610,409 kilograms shall be in Category 604-A ¹⁰.
607 | 4,069,393 kilograms.
611-O ¹¹ | 13,557,514 square meters.
613/614/615 | 61,501,381 square meters of which not more than 35,810,685 square meters shall be in Categories 613/615 and not more than 35,810,685 square meters shall be in Category 614.
617 | 22,208,831 square meters.
619 | 9,156,140 square meters.
620 | 9,156,140 square meters.
625/626/627/628/629 | 17,937,902 square meters of which not more than 14,242,886 square meters shall be in Category 625.
669-P ¹² | 8,582,688 kilograms.
Group II |
237, 331-348, 350-352, 359-H ¹³, 359pt. ¹⁴, 431, 433-438, 440, 442-448, 459pt. ¹⁵, 631, 633-652, 659-H ¹⁶, 659pt. ¹⁷, 831, 833-838, 840-858 and 859pt. ¹⁸, as a group | 373,347,279 square meters equivalent.
Sublevels in Group II |
331/631 | 2,221,105 dozen pairs.
334/634 | 793,533 dozen.
335/635/835 | 630,756 dozen.
336/636 | 406,939 dozen.
338/339 | 2,260,810 dozen.
340 | 366,246 dozen.
341/641 | 864,747 dozen.
342/642 | 752,839 dozen.
345 | 386,593 dozen.
347/348/847 | 1,063,128 dozen.
351/651 | 305,204 dozen.
359-H/659-H | 1,785,277 kilograms.
433 | 10,068 dozen.
434 | 12,428 dozen.
435 | 56,472 dozen.
438 | 18,641 dozen.
442 | 21,647 dozen.
638/639 | 2,664,526 dozen.
640 | 671,449 dozen.
645/646 | 406,939 dozen.
647/648 | 1,448,705 dozen.
¹ Category 239pt.: only HTS number 6209.20.5040 (diapers).
² Category 301-P: only HTS numbers 5206.21.0000, 5206.22.0000, 5206.23.0000, 5206.24.0000, 5206.25.0000, 5206.41.0000, 5206.42.0000, 5206.43.0000, 5206.44.0000 and 5206.45.0000.
³ Category 301-O: only HTS numbers 5205.21.0020, 5205.21.0090, 5205.22.0020, 5205.22.0090, 5205.23.0020, 5205.23.0090, 5205.24.0020, 5205.24.0090, 5205.26.0020, 5205.26.0090, 5205.27.0020, 5205.27.0090, 5205.28.0020, 5205.28.0090, 5205.41.0020, 5205.41.0090, 5205.42.0020, 5205.42.0090, 5205.43.0020, 5205.43.0090, 5205.44.0020, 5205.44.0090, 5205.46.0020, 5205.46.0090, 5205.47.0020, 5205.47.0090, 5205.48.0020 and 5205.48.0090.
⁴ Category 313-O: all HTS numbers except 5208.52.3035, 5208.52.4035 and 5209.51.6032.
⁵ Category 314-O: all HTS numbers except 5209.51.6015.
⁶ Category 315-O: all HTS numbers except 5208.52.4055.
⁷ Category 317-O: all HTS numbers except 5208.59.2085; Category 326-O: all HTS numbers except 5208.59.2015, 5209.59.0015 and 5211.59.0015.
⁸ Category 369-D: only HTS numbers 6302.60.0010, 6302.91.0005 and 6302.91.0045.
⁹ Category 369-S: only HTS number 6307.10.2005.
¹⁰ Category 604-A: only HTS number 5509.32.0000.
¹¹ Category 611-O: all HTS numbers except 5516.14.0005, 5516.14.0025 and 5516.14.0085.
¹² Category 669-P: only HTS numbers 6305.32.0010, 6305.32.0020, 6305.33.0010, 6305.33.0020 and 6305.39.0000.
¹³ Category 359-H: only HTS numbers 6505.90.1540 and 6505.90.2060.
¹⁴ Category 359pt.: all HTS numbers except 6505.90.1540, 6505.90.2060 (Category 359-H); and 6406.99.1550.
¹⁵ Category 459pt.: all HTS numbers except 6405.20.6030, 6405.20.6060, 6405.20.6090, 6406.99.1505 and 6406.99.1560.
¹⁶ Category 659-H: only HTS numbers 6502.00.9030, 6504.00.9015, 6504.00.9060, 6505.90.5090, 6505.90.6090, 6505.90.7090 and 6505.90.8090.
¹⁷ Category 659pt.: all HTS numbers except 6502.00.9030, 6504.00.9015, 6504.00.9060, 6505.90.5090, 6505.90.6090, 6505.90.7090, 6505.90.8090 (Category 659-H); 6406.99.1510 and 6406.99.1540.
¹⁸ Category 859pt.: only HTS numbers 6115.19.8040, 6117.10.6020, 6212.10.5030, 6212.10.9040, 6212.20.0030, 6212.30.0030, 6212.90.0090, 6214.10.2000 and 6214.90.0090.

The limits set forth above are subject to adjustment pursuant to the provisions of the ATC and administrative arrangements notified to the Textiles Monitoring Body.

Products in the above categories exported during 2000 shall be charged to the applicable category limits for that year (see directives dated December 1, 1999) to the extent of any unfilled balances. In the event the limits established for that period have been exhausted by previous entries, such products shall be charged to the limits set forth in this directive.

The conversion factors for merged Categories 359-H/659-H and 638/639 are 11.5 and 12.96, respectively.

In carrying out the above directions, the Commissioner of Customs should construe entry into the United States for consumption to include entry for consumption into the Commonwealth of Puerto Rico.

The Committee for the Implementation of Textile Agreements has determined that these actions fall within the foreign affairs exception of the rulemaking provisions of 5 U.S.C. 553(a)(1).

Sincerely,

Richard B. Steinkamp,
Acting Chairman, Committee for the Implementation of Textile Agreements.

[FR Doc. 00-28546 Filed 11-6-00; 8:45 am]

BILLING CODE 3510-DR-F